COMMITTEE FOR THE IMPLEMENTATION OF TEXTILE AGREEMENTS

Extension of Period of Determination on Request for Textile and Apparel Safeguard Action on Imports from China

October 3, 2005.

AGENCY: The Committee for the Implementation of Textile Agreements (the Committee).

ACTION: Notice.

SUMMARY: The Committee is extending through November 30, 2005, the period for making a determination on whether to request consultations with China regarding imports of cotton and man-made fiber sweaters (Category 345/645/646).

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

BACKGROUND:

On April 6, 2005, the Committee received a request from the American Manufacturing Trade Action Coalition, the National Council of Textile Organizations, the National Textile Association, and UNITE HERE requesting that the Committee limit imports from China of cotton and man-made fiber sweaters (Category 345/645/646) due to market disruption. The Committee determined that this request provided the information necessary for the Committee to consider the request and solicited public comments for a period of 30 days. See Solicitation of Public Comment on Request for Textile and Apparel Safeguard Action on Imports from China, 70 FR 23107 (May 4, 2005).

The Committee's Procedures, 68 FR 27787 (May 21, 2003) state that the Committee will make a determination within 60 calendar days of the close of the public comment period as to whether the United States will request consultations with China. If the Committee is unable to make a determination within 60 calendar days, it will cause to be published a notice in the Federal Register, including the date by which it will make a determination.

The 60 day determination period for this case expired on August 2, 2005. However, the Committee decided to extend until August 31, 2005, the period for making determinations on these cases in order to consult with the domestic textile and apparel industry and members of Congress about whether to pursue a broader agreement with China on imports of Chinese textile and apparel products to the United States. Because of these consultations, the Committee was unable to make a determination within 60 days of the close of the public comment period. See Extension of Period of Determination on Request for Textile and Apparel Safeguard Action on Imports from China, 70 FR 45704 (August 8, 2005). The Committee was unable to make a determination within the extended period because it was continuing to evaluate conditions in the market for cotton and man-made fiber knit sweaters. Therefore, the Committee further extended the determination period to October 1, 2005. See Extension of Period of Determination on Request for Textile and Apparel Safeguard Action on Imports from China, 70 FR 53639 (September 9, 2005). The United States and China have held three rounds of consultations on a broader agreement on textiles, and further consultations will be scheduled. Because of these consultations, the Committee is further extending the determination period to November 30, 2005.

James C. Leonard III,
Chairman, Committee for the Implementation of Textile Agreements.

[FR Doc. E5-5520 Filed 10-5-05; 8:45 am]

BILLING CODE 3510-DS-S